DEPARTMENT OF VETERANS AFFAIRS

Voluntary Service National Advisory Committee, Notice of Meeting

The Department of Veterans Affairs gives notice under Public Law 92-463 that the annual meeting of the Department of Veterans Affairs Voluntary Service (VAVS) National Advisory Committee (NAC) will be held at the Double Tree Hotel at Jantzen Beach, 909 Hayden Island Dr., Portland Oregon, on May 15-18, 2002.

The committee, comprised of fifty-nine national voluntary organizations, advises the Under Secretary of Health and other members of the Department of Veterans Affairs Central Office staff on how to coordinate and promote volunteer activities within VA facilities. The primary purposes of this meeting are: to provide an opportunity for the committee's review of volunteer policies and procedures; to accommodate full and open communications between the organizations, representatives and the Voluntary Service Office and field staff; to provide educational opportunities geared towards improving volunteer programs with special emphasis on methods to recruit, retain, motivate and recognize volunteers; and, to approve committee recommendations.

The meeting sessions are scheduled for 6 p.m. until 8 p.m. on May 15, 2002; 8:30 a.m. until 4:30 p.m. on May 16, 2002; 8:30 a.m. until 4:30 p.m. on May 17, 2002; and 8:30 a.m. until 11:30 a.m. on May 18, 2002, with a closing ceremony at 6 p.m. that day. The May 15 session will principally involve opening ceremonies, remarks by several officials and a keynote address by the VA Under Secretary for Health. The May 16 session will feature a presentation of the meeting's objectives, consideration of several committee and subcommittee reports, a presentation on the Veterans History Project and four educational workshops on communications, corporate volunteering, career focus, and recruitment. On May 17, educational workshops will continue and keynote speakers will address the business session and the James Parke Memorial Scholarship Luncheon. The May 18 session will focus on several awards recognizing exceptional volunteer service, will feature another keynote speaker, and will be followed by a closing ceremonies event in the evening.

The meeting is open to the public. Individuals interested in attending are encouraged to contact: Ms. Laura Balun, Administrative Officer, Voluntary Service Office (10C2), Department of Veterans Affairs, 810 Vermont Avenue, NW., Washington, DC 20420, (202) 273-8392.

Dated: April 17, 2002.
By Direction of the Secretary.
Nora E. Egan,
Committee Management Officer.

[FR Doc. 02-9984 Filed 4-23-02; 8:45 am]

BILLING CODE 8320-01-M